DEPARTMENT OF TRANSPORTATION

Federal Aviation Administration

Public Notice of AIP Property Release Idaho Falls Regional Airport, Idaho Falls, Idaho

AGENCY: Federal Aviation Administration, (FAA), DOT.

ACTION: Notice of request to release Airport Improvement Program Property.

SUMMARY: Notice is being given that the FAA is considering a request from the City of Idaho Falls, Idaho to waive the AIP property requirements and dispose of approximately 0.617 acres of airport property located at Idaho Falls Regional Airport, in Idaho Falls, Idaho.

DATES: Comments are due within 30 days of the date of the publication of this notice in the Federal Register. Emailed comments can be provided to Ms. Summer Rippingale, Airport Program Specialist, Helena Airports District Office, summer.l.rippingale@faa.gov.

FOR FURTHER INFORMATION CONTACT: Summer Rippingale, Airport Program Specialist, Helena Airports District Office, summer.l.rippingale@faa.gov, (406) 441-5229. Documents reflecting this FAA action may be reviewed at the above locations.

SUPPLEMENTARY INFORMATION: The subject property is located east of the airport and Snake River with all airport infrastructure currently on the west side of the Snake River. This release will allow the City of Idaho Falls to sell the 0.617 acres of Parcel 83 lying outside of the Limited Development Approach Zone. The proceeds generated from the proposed release will be utilized for maintenance and capital improvements that support aeronautical activities. The City of Idaho Falls, Idaho will receive not less than fair market value for the property. It has been determined through study that the subject 0.617 acres will not be needed for aeronautical purposes.

Authority: Title 49.U.S.C. 47153(c).

Issued in Helena, Montana, on January 23, 2025.
Steven L. Engebrecht,
Manager, Helena Airports District Office.

[FR Doc. 2025-01856 Filed 1-28-25; 8:45 am]

BILLING CODE 4910-13-P